DEPARTMENT OF THE INTERIOR

Bureau of Land Management

[AZ-210-5320-AL-DUMP-241A]

Notice of Temporary One-Day Recreational Shooting Closure

AGENCY: Bureau of Land Management, Interior.

ACTION: Notice.

SUMMARY: To comply with 43 CFR 8365.1-4(a)(2) Public Health, Safety and Comfort, approximately 6,000 acres of public lands in the Table Mesa Road area, north of Phoenix, Arizona, will be temporarily closed to recreational shooting and all other potentially unsafe or conflicting activities on October 20, 2007 during an all-day BLM sponsored National Public Lands Day (NPLD) volunteer clean-up project.

DATES: Effective October 20, 2007.

FOR FURTHER INFORMATION CONTACT: Mary Skordinsky, Bureau of Land Management, Hassayampa Field Office, 21605 North 7th Avenue, Phoenix, Arizona 85027, (623) 580-5500.

SUPPLEMENTARY INFORMATION: To ensure the safety and welfare of volunteers and BLM staff participating in the NPLD clean-up project, no activities posing as a potential hazard or safety concern will be allowed. Recreational shooting is defined as discharging of any projectile, by means including, but not limited to, firearms, bows, crossbows, airsoft and paintball guns. Any person failing to heed posted notices and found in violation of 43 CFR 8365.1-4(a)(2), will be issued a citation. In addition, those found in violation of other subsections contained within 43 CFR 8365.1-1(a) and (b)(1) through (b)(6) regarding littering and 43 CFR 8365.1-5(a)(1) and (2) regarding resource damage will also be cited. This regulation remains in effect following the temporary closure.

Public lands affected by this temporary closure are described as follows:

T. 7 N., R. 2 E., Sections 4 and 5; T. 8 N., R. 2 E., Sections 20, 21, 28, 29, 32-34 and those portions of Sections 27 and 34 west of Interstate 17. A map of the closure can be viewed at: http://www.blm.gov/az/st/en/fo/hassayampa_field_office.html.

Dated: October 3, 2007.
D. Remington Hawes,
Acting Hassayampa Field Manager.

[FR Doc. E7-20551 Filed 10-17-07; 8:45 am]

BILLING CODE 4310-32-P